DEPARTMENT OF ENERGY

Federal Energy Regulatory Commission

Combined Notice of Filings

Take notice that the Commission has received the following Natural Gas Pipeline Rate and Refund Report filings:

Filings Instituting Proceedings

Docket Numbers:RP22-46-000.

Applicants: Carolina Gas Transmission, LLC.

Description: § 4(d) Rate Filing: CGT—October 14, 2021 Negotiated Rate Agreement to be effective 10/16/2021.

Filed Date: 10/14/21.

Accession Number: 20211014-5055.

Comment Date: 5 p.m. ET 10/26/21.

Docket Numbers: RP22-47-000.

Applicants: ANR Pipeline Company.

Description: § 4(d) Rate Filing: TVA Negotiated Rate Agreement No. 126586 to be effective 10/15/2021.

Filed Date: 10/14/21.

Accession Number: 20211014-5109.

Comment Date:5 p.m. ET 10/26/21.

Docket Numbers: RP22-48-000.

Applicants: Kiwetinohk Marketing US Corp., Kiwetinokh Energy Corp.

Description: Joint Petition for Limited Waiver of Capacity Release Regulations, et al. of Kiwetinohk Energy Corp, et al.

Filed Date: 10/14/21.

Accession Number: 20211014-5137.

Comment Date: 5 p.m. ET 10/26/21.

Docket Numbers: RP22-49-000.

Applicants: National Fuel Gas Supply Corporation.

Description: § 4(d) Rate Filing: Tariff Records for the FM100 Project to be effective 12/1/2021.

Filed Date: 10/15/21.

Accession Number: 20211015-5057.

Comment Date:5 p.m. ET 10/27/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2021.
Debbie-Anne A. Reese,
Deputy Secretary.

[FR Doc. 2021-22980 Filed 10-20-21; 8:45 am]

BILLING CODE 6717-01-P